DEPARTMENT OF STATE

[Public Notice 5262]

Arms Control and Nonproliferation Advisory Board (ACNAB) Meeting Notice; Closed Meeting

In accordance with section 10(a)(2) of the Federal Advisory Committee Act, 5 U.S.C. app 2 section 10(a)(2), the Department of State announces a meeting of the Arms Control and Nonproliferation Advisory Board (ACNAB) to take place on January 30, 2006, at the Department of State, Washington, DC.

Pursuant to section 10(d) of the Federal Advisory Committee Act, 5 U.S.C. app 2 section 10(d) and 5 U.S.C. 552b(c)(1), it has been determined that this Board meeting will be closed to the public in the interest of national defense and foreign policy because the Board will be reviewing and discussing matters classified in accordance with Executive Order 12958. The purpose of the ACNAB is to provide the Department with a continuing source of independent advice on all aspects of arms control, disarmament, international security, and public diplomacy. The Board will be briefed on current U.S. policy and issues regarding Weapons of Mass Destruction and Counter-Terrorism, as well as issues related to the Proliferation Security Initiative (PSI). The Board will also review specific classified arms control and nonproliferation issues as potential first topics for the Board's consideration. In addition, the agenda will include administrative matters related to the Board's first meeting.

For Further Information Contact: Matthew Zartman, Deputy Executive Director of the Arms Control and Nonproliferation Advisory Board, Department of State, Washington, DC 20520, phone: (202) 647-0440.

Dated: January 9, 2006.
George W. Look,
Executive Director of the Secretary's Arms Control and Nonproliferation Advisory Board, Department of State.

[FR Doc. E6-822 Filed 1-23-06; 8:45 am]

BILLING CODE 4710-27-P